ENVIRONMENTAL PROTECTION AGENCY

[ER-FRL-9030-2]

Environmental Impact Statements; Notice of Availability

Responsible Agency: Office of Federal Activities, General Information (202) 564-7146 or http://www.epa.gov/nepa.

Weekly receipt of Environmental Impact Statement

Filed 11/07/2016 Through 11/11/2016

Pursuant to 40 CFR 1506.9.

Notice

Section 309(a) of the Clean Air Act requires that EPA make public its comments on EISs issued by other Federal agencies. EPA's comment letters on EISs are available at: http://www.epa.gov/compliance/nepa/eisdata.html.

EIS No. 20160268, Final, OSM, PRO, Stream Protection Rule, Review Period Ends: 12/15/2016, Contact: Robin Ferguson 202-208-2802.

Dated: November 14, 2016.
Dawn Roberts,
Management Analyst, NEPA Compliance Division, Office of Federal Activities.

[FR Doc. 2016-27700 Filed 11-15-16; 8:45 am]

BILLING CODE 6560-50-P